NUCLEAR REGULATORY COMMISSION

[Docket No. 50-400]; [License Nos. Npf-63]

Carolina Power & Light Company; Receipt of Request for Action Under 10 Cfr 2.206

Notice is hereby given that by petition dated September 20, 2006, and its supplements dated October 23, and October 30, 2006, Mr. John D. Runkle (attorney for the petitioners) has requested that the U.S. Nuclear Regulatory Commission (NRC) take action with regard to Shearon Harris Nuclear Power Plant (SHNPP). The petitioners request that NRC take enforcement action in the form of an Order that would revoke SHNPP's Operating License or impose maximum fines for each violation for each day the plant has been in violation of fire protection regulations.

As the basis for this request, the petitioners discuss several fire safety violations at SHNPP which could affect the safe operation of the plant and safe shutdown of the plant in emergency situations. The petitioners' concerns focus on faulty fire barriers, reliance on indefinite compensatory measures, the risk associated with the noncompliances, and the NRC's enforcement discretion policy. The petitioners have also requested open and public proceedings with the NRC; the licensee, Carolina Power & Light, now doing business as Progress Energy; and external stakeholders in the vicinity of the SHNPP.

The request is being treated pursuant to Title 10 of the Code of Federal Regulations Section 2.206 (10 CFR 2.206) of the Commission's regulations. As provided by 10 CFR 2.206, the agency will take appropriate action on this petition within a reasonable time. A copy of the petition is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr@nrc.gov.

For Nuclear Regulatory Commission.
Dated at Rockville, Maryland, this 4th day of December 2006.
J.E. Dyer,
Director, Office of Nuclear Reactor Regulation.

[FR Doc. E6-20858 Filed 12-7-06; 8:45 am]

BILLING CODE 7590-01-P